Title 3—

The President

Proclamation 7856 of December 17, 2004

Wright Brothers Day, 2004

By the President of the United States of America

A Proclamation

On Wright Brothers Day, we honor the achievement and imagination of Orville and Wilbur Wright, two bicycle mechanics from Dayton, Ohio, who changed the world with their optimism, creativity, and persistence. On this day, we recall a monumental event in the history of our Nation and in the story of mankind.

On a cold December morning in 1903 on the Outer Banks of North Carolina, a small wood and canvas aircraft sent America on a journey far beyond the sands of Kitty Hawk. The flight spanned 120 feet and lasted just 12 seconds, yet it ushered in a new era of unimaginable advances in aviation and aerospace technology. Today, air travel is vital to our country, helping bring people together and sustain our security. In addition, the aviation industry strengthens our economy by supporting millions of jobs.

The spirit that led the Wright Brothers to powered flight continues today in America's space program. From providing surveys of the sun to images of the planets, our spacecraft are exploring the outer edges of our solar system and revolutionizing our view of the universe. Under my Vision for Space Exploration Program, we will proudly carry on the Wright Brothers' tradition of innovation. As we embark on the next century of flight, that spirit of discovery will help our Nation and the world realize the full promise of tomorrow.

The Congress, by a joint resolution approved December 17, 1963 (77 Stat. 402; 36 U.S.C. 143) as amended, has designated December 17 of each year as “Wright Brothers Day” and has authorized and requested the President to issue annually a proclamation inviting the people of the United States to observe that day with appropriate ceremonies and activities.

NOW, THEREFORE, I, GEORGE W. BUSH, President of the United States of America, do hereby proclaim December 17, 2004, as Wright Brothers Day.

IN WITNESS WHEREOF, I have hereunto set my hand this seventeenth day of December, in the year of our Lord two thousand four, and of the Independence of the United States of America the two hundred and twenty-ninth.

B

[FR Doc. 04-28111

Filed 12-21-04; 8:45 am]

Billing code 3195-01-P